DEPARTMENT OF COMMERCE

National Oceanic and Atmospheric Administration

[I.D. 033104B]

Marine Mammals; File Nos. 87-1743, 1066-1750

AGENCY: National Marine Fisheries Service (NMFS), National Oceanic and Atmospheric Administration (NOAA), Commerce.

ACTION: Receipt of applications for permits.

SUMMARY: Notice is hereby given that the following applicants have applied in due form for a permit to take marine mammals: Daniel Costa, Department of Biology and Institute of Marine Sciences, University of California, Santa Cruz, California 95064 (File No. 87-1743); and Michael Williams, LGL, Alaska Research Associates, Inc., 1101 East 76th Avenue, Anchorage, Alaska 99518 (File No. 1066-1750).

DATES: Written, telefaxed, or e-mail comments must be received on or before May 7, 2004.

ADDRESSES: The applications and related documents are available for review upon written request or by appointment in the following office(s):

All documents: Permits, Conservation and Education Division, Office of Protected Resources, NMFS, 1315 East-West Highway, Room 13705, Silver Spring, MD 20910; phone (301)713-2289; fax (301)713-0376;

File No. 87-1743: Southwest Region, NMFS, 501 West Ocean Blvd., Suite 4200, Long Beach, CA 90802-4213; phone (562)980-4001; fax (562)980-4018; and

File No. 1066-1750: Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments would also be submitted by facsimile to (301)713-0376, provided the facsimile is confirmed by hard copy submitted by mail and postmarked no later than the closing date of the comment period.

Comments would also be submitted by e-mail. The mailbox address for providing email comments is NMFS.Pr1Comments@noaa.gov. Include in the subject line of the e-mail comment the applicable document identifier: File No. 87-1743 or File No. 1066-1750.

FOR FURTHER INFORMATION CONTACT: Amy Sloan or Ruth Johnson, 301/713-2289.

SUPPLEMENTARY INFORMATION: The subject permits are requested under the authority of the Marine Mammal Protection Act of 1972, as amended (MMPA; 16 U.S.C. 1361 et seq.), the Regulations Governing the Taking and Importing of Marine Mammals (50 CFR part 216), and the Fur Seal Act of 1966, as amended (16 U.S.C. 1151 et seq.).

Applications for permit

File No. 87-1743: The applicant, Daniel Costa, proposes to continue long-term behavioral, physiological, and life history research studies on northern elephant seals (Mirounga angustirostris) throughout their range. The proposed annual activities are described below.

Tagging and marking studies: Up to 1600 juvenile and 1250 adult seals of either sex would be captured, tagged, and marked, with up to 14, 250 animals incidentally harassed during these procedures.

Weigh, Measure, and Sample: Two hundred juveniles and 50 adults of either sex would be captured, sedated as necessary, weighed, measured (length/girth/ultrasound), and sampled (20 ml blood, flipper skin, blubber and muscle biopsy); 100 of the juveniles and all adults would be captured twice; up to 13,750 animals would be incidentally harassed during these activities.

Apply Satellite Tracking tags, Time-Depth Speed, Oceanography Recorders: Up to 50 juveniles and 100 adults of either sex would be captured, chemically restrained, weighed and measured (length/girth/ultrasound), injected with Evans Blue dye for blood volume estimates, blood and biopsy sampled, tagged with a dive-depth-swim speed-oceanography instrument package and/or a satellite tracking transmitter and released, and up to 20 individuals would have stomach temperature telemeters placed using a gastric tube; seals would be re-captured, weighed, stomach lavaged, have instruments removed, and be released; up to 1200 seals would be incidentally harassed during these activities.

Translocation Studies of Diving: Up to 80 juveniles would be captured, sedated, handled as above, transported to Long Marine Laboratory (LML) or Sonoma State University and held overnight, transported to a different site and released at sea up to 200 km from Ano Nuevo; instruments would be attached as above; seals that return to the original capture site would be recaptured, sedated, have diving instruments removed and be weighed, measured, blood sampled and re-released. Of these: 60 would have a radio-transmitter, time-depth recorder, and satellite tracking transmitter attached; individuals would also have either a CTD (conductivity temperature and depth) tag or an acoustic data logger attached in addition to or instead of the time depth recorder; 10 would be injected with doubly-labeled water (oxygen 18 and tritiated water); 10 would be outfitted with a small video or digital camera, a radio transmitter and/or a satellite tag glued to the pelage; up to 800 seals would be incidentally harassed during capture operations.

Fasting Energetics and Metabolic Regulation Study: Up to 90 juveniles and 40 adults of either sex would be captured, handled (weighed and measured), catheterized in the extradural vein, blood sampled, and have one of the following administered: (a) glucose (0.5 g/kg as a 25 g/dl solution); (b) insulin (0.1-0.15 units/kg); (c) glucagon (0.03 mg/kg, not to exceed a total of 1 mg); or (d) a standard clinical tracer. Animals would be recaptured, blood sampled and weighed up to four times for each project. Up to 2,600 seals would be incidentally harassed during these activities.

Fasting Metabolic Study: Up to 40 juvenile seals would be captured, chemically restrained, transported and temporarily held at LML for up to 30 days, sedated, catheterized, blood sampled, ECG measured and released. Up to 400 seals would be incidentally harassed during capture operations.

Reproductive Energetics: Up to 60 animals (30 mother/pup pairs) would be captured. Females would be sedated (3-5 days after parturition), injected with 40 International Units of oxytocin, blood and milk (200 ml) sampled, weighed and measured as above, administered doubly-labeled water or standard clinical tracer and released. Pups would be physically restrained, weighed and measured, blood sampled, and administered tritiated or deuturated water. During mid lactation an additional blood sample would be obtained from each mother/pup pair. At the end of lactation (day 25-28), the initial procedure would be repeated on mother pup pairs except for administration of oxygen-18. Up to 2,400 seals would be incidentally harassed during these activities.

Male mating energetics: Up to 20 adult males would be captured, weighed on a truck scale, sedated, injected with tritiated water, measured and blood sampled at the beginning of the breeding season. This procedure would be repeated at the end of the breeding season. Up to 1,200 seals would be incidentally harassed during these activities.

Bioacoustics: Each year source level recordings of vocalizations and playback experiments would be conducted on 50 adult males, 50 subadult males, 50 adult females, and 50 pups for a total of 200 animals. The bioacoustics research described here involves Level B harassment (behavioral observation and recording) and could potentially alter individual seal's behavior. However, all playbacks would be brief in nature (generally less than 5 minutes), never louder than naturally occurring seal vocalization levels, and responses from the seals (if any) would be expected to be very brief (e.g. an orientation or call in response but nothing more).

File No. 1066-1750: The applicant, Michael Williams, proposes to take northern fur seals (Callorhinus ursinus) during disentanglement activities. The primary research focus is to estimate the annual proportion of sub-adult male seals entangled in derelict fishing gear and marine debris, compare these estimates to estimates from the Pribilof Islands of St. Paul and St. George in previous years, and capture and disentangle seals observed on both. This work would occur during the subsistence harvest round-ups and would be coordinated with subsistence harvest round-ups to prevent duplicating disturbances at harvested haulout sites. The secondary focus is to count the number of fur seals entangled, and capture and disentangle them individually after commercial harvest season has ended on St. Paul Island only. Females and pre-weaned pups would be captured during the solo captures, but it is anticipated that the vast majority of seals captured would be sub-adult males. Animals captured would be blood sampled, wounds from entangled debris would be swabbed and fecal samples would be collected. The following table outlines the number of animals proposed to be harassed and captured annually for three years.

| Harassed Intentionally (Level B) | Harassed Incidentally (Level B) | Capture, blood sample, wound swab, fecal sample (Level A)
St. Paul Island-males | 6,000 | 1,200 | 110
St. Paul Island-females | 15 | 200 | 15
St. Paul Island-pups | 10 | 400 | 10
St. George Island-males | 5,000 | 1,000 | 40

Concurrent with the publication of this notice in the Federal Register, NMFS is forwarding copies of these applications to the Marine Mammal Commission and its Committee of Scientific Advisors.

Dated: April 2, 2004.
Patrick Opay,
Acting Chief, Permits, Conservation and Education Division, Office of Protected Resources, National Marine Fisheries Service.

[FR Doc. 04-7904 Filed 4-6-04; 8:45 am]

BILLING CODE 3510-22-S